DEPARTMENT OF THE INTERIOR

National Park Service

National Register of Historic Places; Notification of Pending Nominations

Nominations for the following properties being considered for listing in the National Register were received by the National Park Service before December 1, 2001. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax, 202-343-1836. Written or faxed comments should be submitted by January 11, 2002.

Carol D. Shull,
Keeper of the National Register of Historic Places.

GEORGIA

Early County

Butler, James And Clara, House, 418 College St., Blakely, 01001430

Meriwether County

Bulloch Family House, Spring St., Warm Springs, 01001429

Schley County

Woodall—Patton House and Post Office, GA 240, 3 mi. W of US19, Ellaville, 01001432

Whitfield County

Western and Atlantic Railroad Tunnel at Tunnel Hill, Western and Atlantic Railroad, Tunnel Hill, 01001431

MAINE

Waldo County

Knowlton, Ebenezer, House, Choate Rd., Montville, 01001433

NEW YORK

Albany County

Bethlehem Grange No. 137, 24 Bridge St., Selkirk, 01001443

Van Der Zee, C., House, NY 143 at Blossom Hill Rd., Coeymans Hollow, 01001434

Bronx County

Lisanti Chapel, 740 E. 215th St., Bronx, 01001447

Cattaraugus County

Pfeiffer—Wheeler American Chestnut Cabin, Lillibridge Rd., Portville, 01001436

Wheeler, William E., House, 29 Maple Ave., Portville, 01001435

Columbia County

St. John's Evangelical Lutheran Church, 923 NY 19, Livingston, 01001437

Kings County

Brooklyn Public Library—Central Building, Grand Army Plaza, Brooklyn, 01001446

Congregation Tifereth Israel, 1320 Eight Ave., Brooklyn, 01001442

New York County

Broadway Synagogue, Old, 15 Old Broadway, New York, 01001440

Queens County

Prospect Cemetery, 159th St. and Beaver Rd., Jamaica, 01001438

Trinity Chapel, 1874 Mott Ave., Far Rockaway, 01001445

Schoharie County

Lasell Hall, 350 Main St., Schoharie, 01001444

Ulster County

Coykendall Lodge, Off Alder Lake Rd., Hardenbergh, 01001441

O & W Railroad Station at Port Ben, Tow Path Rd., Wawarsing, 01001448

Westchester County

Church of St. Joseph of Arimathea, 2172 Saw Mill River Rd., Greenburgh, 01001439

TENNESSEE

Greene County

Earnest Farms Historic District, (Transformation of the Nolichucky Valley MPS) S of Nolichucky R., bounded by Crum Farm and Jim Earnest Farmstead, Chuckey, 01001449

UTAH

Kane County

Dixon, Maynard, and Edith Hamlin House and Studio, UT 89, Mt. Carmel, 01001450

Salt Lake County

Capitol Hill Historic District (Boundary Increase), Roughly bounded by 300 North, 400 West, 800 North, Wall St., and 200 West, Salt Lake City, 01001451

Clark, Isaac C. and Dorothy S., House, 1430 E. Federal Way, Salt Lake City, 01001452

WISCONSIN

Walworth County

Main Street Historic District, Roughly Main St., from Broad St. to Center St., Lake Geneva, 01001453

WYOMING

Teton County

Miller, Grace and Robert, Ranch (Boundary Increase), 1 mi. NE of Jackson, Jackson, 01001454

A Request for REMOVAL has been made for the following resources:

ARKANSAS

Chicot County

Liberto, P. and J.-Rosa Portera Building (Ethnic and Racial Minority Settlement of the Arkansas Delta MPS) Main St., Eudora, 92001348

Clark County

Benjamin Mercantile Building, 410 Main St., Arkadelphia, 90001378

Dallas County

Brewster House (Dallas County MRA), US 79 Fordyce, 83003464

Koonce Building (Dallas County MRA), 3rd St. Fordyce, 83003525

Old Fordyce Post Office (Dallas County, MRA), E. 2nd St., Fordyce, 83003530

Princeton Methodist Church (Dallas County, MRA), AR 9, Princeton, 83003533

Faulkner County

First Baptist Church (Thompson, Charles L., Design Collection TR), Davis and Robinson Sts., Conway, 82000813

Miller County

First Methodist Church (Thompson, Charles L., Design Collection TR), 100 E. 6th, Tearkana, 82000863

Lightfoot, Dr. J.A., House 422 Pecan St., Texarkana, 95000792

Perry County

Cypress Creek Bridge (Historic Bridges of Arkansas MPS), Co. Rd. 64, over Cypress Creek, Perry vicinity, 90000537

Polk County

Scoggin House, 1215 Port Arthur Ave., Mena, 78000616

Pulaski County

Forrey-Smith Apartments (Thompson, Charles L., Design Collection TR), 1019 W. 4th St., Little Rock, 82000893

Forrey-Smith Apartments (Thompson, Charles L., Design Collection TR), 409 Ringo St., Little Rock, 82000892

Pulaski County Rd., 71D Bridge (Historic Bridges of Arkansas MPS), Co. Rd. 71D over Bayou Meto, Jacksonville, 95000652

Saline River Bridge (Historic Bridges of Arkansas MPS), Co. Hwy. 365, over the Saline River, Benton, 90000529

Sebastian County

Vache Grasse Creek Bridge (Historic Bridges of Arkansas MPS), Co. Rd. 77A over Vache Grasse Cr., Milltown vicinity, 95000563

Sharp County

Metcalfe House (Evening Shade MRA), Gin Dr., Evening Shade, 82002138

White County

Roper House (White County MPS), Hill Street, McRae, 91001346

IOWA

Lee County

Keokuk Union Depot, 200 Exchange St., Keokuk, 99000452

[FR Doc. 01-31773 Filed 12-26-01; 8:45 am]

BILLING CODE 3510-70-P